DEPARTMENT OF COMMERCE

International Trade Administration

[A-560-826]

Monosodium Glutamate From the Republic of Indonesia: Final Determination of Sales at Less Than Fair Value

AGENCY: Enforcement and Compliance, International Trade Administration, Department of Commerce.

SUMMARY: The Department of Commerce (the Department) determines that monosodium glutamate (MSG) from the Republic of Indonesia (Indonesia) is being, or is likely to be, sold in the United States at less than fair value, as provided in section 735 of the Tariff Act of 1930, as amended (the Act). The period of investigation is July 1, 2012, through June 30, 2013. The final weighted-average dumping margins are listed below in the section, “Final Determination.”

DATES: Effective Date: September 29, 2014.

FOR FURTHER INFORMATION CONTACT: Gene Calvert or Justin Neuman, AD/CVD Operations, Office VII, Enforcement and Compliance, International Trade Administration, U.S. Department of Commerce, 14th Street and Constitution Avenue NW., Washington, DC 20230; telephone: (202) 482-3586 or (202) 482-0486, respectively.

SUPPLEMENTARY INFORMATION:

Background

The events that have occurred since the Department published the Preliminary Determination on May 8, 2014,¹ are discussed in the Issues and Decision Memorandum.²

¹ See Monosodium Glutamate From the Republic of Indonesia: Affirmative Preliminary Determination of Sales at Less Than Fair Value and Postponement of Final Determination, 79 FR 26406 (May 8, 2014) (Preliminary Determination).

² See the Department Memorandum, “Issues and Decision Memorandum for the Final Affirmative Determination in the Less than Fair Value Investigation of Monosodium Glutamate from the Republic of Indonesia,” which is dated concurrently with and hereby adopted by this notice (Issues and Decision Memorandum).

Scope of the Investigation

The product covered by this investigation is MSG, whether or not blended or in solution with other products. Specifically, MSG that has been blended or is in solution with other product(s) is included in this scope when the resulting mix contains 15 percent or more of MSG by dry weight. The full scope of the investigation is set forth in Appendix I, below.

Changes to the Scope of the Investigation

As detailed in the accompanying Issues and Decision Memorandum, we clarified the scope language with respect to the written descriptions of anhydrous and monohydrous forms of MSG and their chemical formula references.³

³ See the Issues and Decision Memorandum at the section, “Scope of the Investigation.”

Analysis of Comments Received

All issues raised in the case and rebuttal briefs by parties in this investigation are addressed in the Issues and Decision Memorandum. A list of the issues raised in the case and rebuttal briefs is attached to this notice.⁴ The Issues and Decision Memorandum is a public document and is on file electronically via Enforcement and Compliance's Antidumping and Countervailing Duty Centralized Electronic Service System (IA ACCESS). IA ACCESS is available to registered users at http://iaaccess.trade.gov, and is available to all parties in the Department's Central Records Unit, room 7046 of the main Department of Commerce building. In addition, a complete version of the Issues and Decision Memorandum can be accessed directly at http://enforcement.trade.gov/frn/. The signed and electronic versions of the Issues and Decision Memorandum are identical in content.

⁴ See Appendix II.

Changes Since the Preliminary Determination

Based on our analysis of the comments received, and our findings at verification, we made certain changes to the weighted-average dumping margin calculations. For a discussion of these changes, see the “Margin Calculations” section of the Issues and Decision Memorandum.

Verification

As provided in section 782(i) of the Act, in July 2014, we verified the sales and cost information submitted by PT Cheil Jedang Indonesia and CJ America, Inc. (collectively, Cheil Jedang) for use in our final determination. We used standard verification procedures, including an examination of relevant accounting and production records, and original source documents provided by Cheil Jedang.⁵

⁵ See the Department Memoranda, “Verification of the Cost Response of PT Cheil Jedang Indonesia in the Less-Than-Fair-Value Investigation of Monosodium Glutamate from Indonesia,” (July 11, 2014); “Verification of the Sales Responses of Cheil Jedang Indonesia in the Antidumping Duty Investigation of Monosodium Glutamate (MSG) from Indonesia,” (July 21, 2014) and; “Verification of the CEP Sales Responses of CJ America, Inc. in the Antidumping Duty Investigation of Monosodium Glutamate (MSG) from Indonesia,” (July 21, 2014).

Final Determination

The weighted-average dumping margins for this final determination are as follows:

Producer or Exporter | Weighted-average dumping margin (percent)
PT Cheil Jedang Indonesia | 6.19
All Others | 6.19

Section 735(c)(5)(A) of the Act provides that the estimated “all others” rate shall be an amount equal to the weighted average of the weighted-average dumping margins calculated for the producers or exporters individually examined, excluding rates that are zero, de minimis, or determined entirely under section 776 of the Act. Because we calculated a weighted-average dumping margin for only one respondent, and that rate was not zero, de minimis, or determined entirely under section 776 of the Act, we assigned to all other producers and exporters the rate calculated for PT Cheil Jedang Indonesia.

Disclosure

We intend to disclose the calculations performed for this final determination within five days after the date of publication of this notice to parties in this proceeding in accordance with 19 CFR 351.224(b).

Suspension of Liquidation

In accordance with section 735(c)(1)(B) of the Act, we will instruct U.S. Customs and Border Protection (CBP) to continue to suspend liquidation of all entries of MSG from Indonesia. We will also instruct CBP to require cash deposits equal to the amount as indicated above. These instructions suspending liquidation will remain in effect until further notice.

International Trade Commission Notification

In accordance with section 735(d) of the Act, we will notify the International Trade Commission (the ITC) of our final determination. As our final determination is affirmative, in accordance with section 735(b)(2) of the Act, the ITC will determine within 45 days whether the domestic industry in the United States is materially injured, or threatened with material injury, by reason of imports or sales (or the likelihood of sales) for importation of subject merchandise. If the ITC determines that such injury does exist, the Department will issue an antidumping duty order directing CBP to assess, upon further instruction from the Department, antidumping duties on all imports of subject merchandise entered, or withdrawn from warehouse, for consumption on or after the effective date of the suspension of liquidation. We are making available to the ITC all non-privileged and non-proprietary information related to this investigation. We will allow the ITC access to all privileged and business proprietary information in our files, provided the ITC confirms that it will not disclose such information, either publicly or under an administrative protective order (APO), without the written consent of the Assistant Secretary for Enforcement and Compliance.

Return or Destruction of Proprietary Information

This notice serves as the final reminder to parties subject to an APO of their responsibility concerning the destruction of proprietary information disclosed under APO in accordance with 19 CFR 351.305(a)(3). Timely written notification of return/destruction of APO materials or conversion to judicial protective order is hereby requested. Failure to comply with the regulations and terms of an APO is a sanctionable violation.

We are issuing and publishing this determination and notice in accordance with sections 735(d) and 777(i) of the Act.

Dated: September 22, 2014.
Paul Piquado,
Assistant Secretary for Enforcement and Compliance.

Appendix I

Scope of the Investigation

The scope of this investigation covers monosodium glutamate (MSG), whether or not blended or in solution with other products. Specifically, MSG that has been blended or is in solution with other product(s) is included in this scope when the resulting mix contains 15 percent or more of MSG by dry weight. Products with which MSG may be blended include, but are not limited to, salts, sugars, starches, maltodextrins, and various seasonings. Further, MSG is included in this investigation regardless of physical form (including, but not limited to, in monohydrate or anhydrous form, or as substrates, solutions, dry powders of any particle size, or unfinished forms such as MSG slurry), end-use application, or packaging.

MSG in monohydrate form has a molecular formula of C5H8NO4Na •H2O, a Chemical Abstract Service (CAS) registry number of 6106-04-3, and a Unique Ingredient Identifier (UNII) number of W81N5U6R6U. MSG in anhydrous form has a molecular formula of C5H8NO4 Na, a CAS registry number of l42-47-2, and a UNII number of C3C196L9FG.

Merchandise covered by the scope of this investigation is currently classified in the Harmonized Tariff Schedule (HTS) of the United States at subheading 2922.42.10.00. Merchandise subject to the investigation may also enter under HTS subheadings 2922.42.50.00, 2103.90.72.00, 2103.90.74.00, 2103.90.78.00, 2103.90.80.00, and 2103.90.90.91. The tariff classifications, CAS registry numbers, and UNII numbers are provided for convenience and customs purposes; however, the written description of the scope is dispositive.

Appendix II

List of Topics Discussed in the Issues and Decision Memorandum

I. Summary

II. Background

III. Scope of the Investigation

IV. Margin Calculations

V. Discussion of the Issues

1. Treatment of CJI's Import Duties on Imported Raw Materials Into Bonded Zones

2. Treatment of CJA's Indirect Selling Expenses

3. Treatment of CJA's Royalty Expenses

4. Treatment of CJI's Credit Expenses

5. Minor Calculation Error Regarding Currency Conversions

VI. Recommendation

[FR Doc. 2014-23126 Filed 9-26-14; 8:45 am]

BILLING CODE 3510-DS-P